DEPARTMENT OF THE INTERIOR

Fish and Wildlife Service

[FWS-R4-ES-2009-N120; 40120-1112-0000-F2]

Endangered and Threatened Wildlife and Plants; Etowah River Habitat Conservation Plan, Bartow, Cherokee, Cobb, Dawson, Forsyth, Paulding, and Pickens Counties, GA

AGENCY: Fish and Wildlife Service, Interior.

ACTION: Notice: receipt of applications for incidental take permits (ITPs) for the Etowah River Habitat Conservation Plan (HCP); availability of proposed HCP and environmental assessment (EA); request for comment.

SUMMARY: We, the Fish and Wildlife Service, announce the availability of a proposed HCP, 13 accompanying ITP applications, and an EA related to proposed development that would effect three fish species in a covered area encompassing 3,773 square kilometers (km²) (932,000 ac). Each county and municipality seeking incidental take authorization has prepared a separate application in conjunction with the one HCP and EA. The HCP analyzes the take of the Federally endangered fish species amber darter (Percina antesella) and Etowah darter (Etheostoma etowahae), and the Federally threatened Cherokee darter (Etheostoma scotti), incidental to the applicants' regulation of development and construction in their respective jurisdictions. The applicants request ITPs under the Endangered Species Act of 1973 (Act), as amended. The Applicants' HCP describes the mitigation and minimization measures proposed to address the effects on the species.

DATES: We must receive any written comments on the ITP applications, EA, and HCP at our Regional Office (see ADDRESSES) on or before August 31, 2009.

ADDRESSES: Documents will be available for public inspection by appointment during normal business hours at, and are available from, the Fish and Wildlife Service's Regional Office, 1875 Century Boulevard, Suite 200, Atlanta, GA 30345 (Attn: David Dell); or Fish and Wildlife Service, West Park Center, Suite D, 105 West Park Drive, Athens, GA 30606.

FOR FURTHER INFORMATION CONTACT: Mr. David Dell, Regional HCP Coordinator (see ADDRESSES), telephone: 404/679-7313; or Ms. Robin Goodloe, Field Office Project Manager (see ADDRESSES), at 706/613-9493, ext. 221.

SUPPLEMENTARY INFORMATION: We announce the availability of a proposed HCP, 13 accompanying ITP applications, and an EA, which analyzes the take of the amber darter, Etowah darter, and Cherokee darter incidental to programs in the 13 applicant counties and municipalities. The applicants request 25-year ITPs under section 10(a)(1)(B) of the Endangered Species Act of 1973 (Act; 16 U.S.C. 1531 et seq.), as amended.

We specifically request information, views, and opinions from the public via this notice on our proposed Federal action, including identification of any other aspects of the human environment not already identified in the EA pursuant to NEPA regulations (40 CFR 1506.6). Further, we specifically solicit information regarding the adequacy of the HCP per 50 CFR parts 13 and 17.

An assessment of the likely environmental impacts associated with the implementation of the Etowah River HCP, the EA considers the environmental consequences of two alternatives and the proposed action. The proposed action alternative is issuance of the ITPs and implementation of the HCP as submitted by the Applicants. The HCP covers activities associated with the new development and redevelopment of land by participating local governments and private entities, except for: (1) Construction of sewer lines, (2) stormwater runoff from roads constructed by jurisdictions, and (3) utility crossings of streams that are not part of a larger common plan of development or sale. The HCP also addresses water supply planning by participating local governments and their partners. Avoidance, minimization, and mitigation measures include stormwater management, riparian buffers, erosion and sediment control, stream crossing requirements, and a reservoir siting protocol.

Public Comments

If you wish to comment, you may submit comments by any one of several methods. Please reference “Etowah River HCP” in such comments. You may mail comments to the Fish and Wildlife Service's Regional Office (see ADDRESSES). You may also comment via the Internet to david_dell@fws.gov. Please include your name and return address in your Internet message. If you do not receive a confirmation from us that we have received your Internet message, contact us directly at either telephone number listed under FOR FURTHER INFORMATION CONTACT.

Finally, you may hand-deliver comments to either of our offices listed under ADDRESSES. Before including your address, phone number, e-mail address, or other personal identifying information in your comment, you should be aware that your entire comment—including your personal identifying information—may be made publicly available at any time. While you can ask us in your comment to withhold your personal identifying information from public review, we cannot guarantee that we will be able to do so.

Covered Area

The area covered by the Etowah Aquatic HCP includes all those portions of the Etowah basin that are in Bartow, Cherokee, Cobb, Dawson, Forsyth, Paulding, and Pickens Counties, Georgia, including all municipalities that lie within that area, as well as the portion of the City of Roswell (Roswell lies in another county not participating in the HCP) that lies within the Etowah Basin. The entire covered area encompasses 3,773 km² or approximately 932,000 ac. The following counties and municipalities have applied for ITPs under the Etowah Aquatic HCP:

Bartow County | TE179735-0
Cherokee County | TE179736-0
Paulding County | TE179734-0
Pickens County | TE179722-0
The City of Acworth | TE179730-0
City of Ball Ground | TE179731-0
City of Canton | TE179727-0
City of Dawsonville | TE179723-0
City of Dallas | TE179724-0
City of Holly Springs | TE179733-0
City of Roswell | TE179732-0
City of Waleska | TE179726-0
City of Woodstock | TE179728-0

]

Next Steps

We will evaluate these ITP applications, including the HCP and any comments we receive, to determine whether these applications meet the requirements of section 10(a)(1)(B) of the Act. We will also evaluate whether issuance of the section 10(a)(1)(B) ITPs complies with section 7 of the Endangered Species Act by conducting an intra-Service section 7 consultation. We will use the results of this consultation, in combination with the above findings, in our final analysis to determine whether or not to issue the ITPs. If we determine that the requirements are met, we will issue the ITPs for the incidental take of the amber darter, Etowah darter, and Cherokee darter.

Authority

We provide this notice under section 10 of the Act (16 U.S.C. 1531 et seq.) and NEPA regulations (40 CFR 1506.6).

Dated: June 9, 2009.
Cynthia K. Dohner,
Deputy Regional Director.

[FR Doc. E9-15401 Filed 6-29-09; 8:45 am]

BILLING CODE 4310-55-P